DEPARTMENT OF THE INTERIOR

Bureau of Land Management

[ES-030-1430-ES; WIES 050211]

Notice of Realty Action: Recreation and Public Purposes (R&PP) Act Classification and Conveyance; Vilas County, WI

Correction

In notice document 06-6782 appearing on page 45578 in the issue of Wednesday, August 9, 2006, make the following corrections:

1. On page 45578, in the second column, in the second line, “2343” should read “were”.

2. On the same page, in the same column, in the same paragraph, in the second line from the bottom of the paragraph, “manager” should read “manage”.

3. On the same page, in the same column, in numbered paragraph 6., in the fourth line, “Federal ands” should read “Federal lands”.

4. On the same page, in the third column, in the sixth line, “administrative procedure” should read “administrative procedures”.

5. On the same page, in the same column, in the first full paragraph, in the sixth line from the bottom of the paragraph, “individual” should read “individuals”.

6. On the same page, in the same column, in the same paragraph, in the fourth line from the bottom of the paragraph, “officials or” should read “officials of”.

7. On the same page, in the same column, in the the second full paragraph, in the fifth line, “October 10, 1006” should read “October 10, 2006”.

[FR Doc. C6-6782 Filed 8-24-06; 8:45 am]

BILLING CODE 1505-01-D

DEPARTMENT OF LABOR

Occupational Safety and Health Administration

Maritime Advisory Committee on Safety and Health (MACOSH)

Correction

In notice document 06-6746 beginning on page 45075 in the issue of Tuesday, August 8, 2006, make the following correction:

On page 45076, in the first column, in the sixth paragraph, in the first line, “Leon” should read “Lemon”.

[FR Doc. C6-6746 Filed 8-24-06; 8:45 am]

BILLING CODE 1505-01-D

DEPARTMENT OF TRANSPORTATION

Federal Aviation Administration

14 CFR Part 39

[Docket No. FAA-2006-24954;Directorate Identifier 2006-CE-30-AD; Amendment 39-14713; AD 2006-16-13]

RIN 2120-AA64

Airworthiness Directives; Pilatus Aircraft Ltd. Models PC-12 and PC-12/45 Airplanes

Correction

In rule document E6-13016 beginning on page 46389 in the issue of Monday, August 14, 2006, make the following correction:

§ 39.13 [Corrected]

On page 46390, in the first column, in § 39.13(e)(1), in the second line, “September 15, 2006” should read “September 18, 2006”.

[FR Doc. Z6-13016 Filed 8-24-06; 8:45 am]

BILLING CODE 1505-01-D